NATIONAL AERONAUTICS AND SPACE ADMINISTRATION

[Notice (18-047)]

National Space Council Users' Advisory Group; Meeting

AGENCY: National Aeronautics and Space Administration.

ACTION: Notice of meeting.

SUMMARY: In accordance with the Federal Advisory Committee Act, as amended, the National Aeronautics and Space Administration (NASA) announces a meeting of the National Space Council Users' Advisory Group (UAG).

DATES: Tuesday, June 19, 2018, 9:00 a.m.-2:00 p.m., Eastern Time.

ADDRESSES: NASA Headquarters, Executive Conference Center, Room 8Q40B, 300 E Street SW, Washington, DC 20546. Please note that if the prior room is filled to maximum capacity, an overflow room will be provided in the James E. Webb Memorial Auditorium.

FOR FURTHER INFORMATION CONTACT: Mr. Brandon Eden, UAG Designated Federal Officer, NASA Headquarters, Washington, DC 20546, (202) 358-2470 or brandon.t.eden@nasa.gov.

SUPPLEMENTARY INFORMATION: This meeting will be open to the public up to the capacity of the meeting room. This meeting is also available telephonically and by WebEx. You must use a touch-tone phone to participate in this meeting. Any interested person may dial the Toll Number 1-517-308-9154 or Toll Free Number 888-469-2059 and then the numeric passcode 7145407, followed by the # sign. Note: If dialing in, please “mute” your phone. To join via WebEx, the link is https://nasa.webex.com/. The meeting number on June 19 is 995 394 422 and the meeting password is JMgpT9A? (case sensitive).

As noted above, this will be the first meeting of the UAG. Topics to be discussed will include:

—Opening Remarks by National Space Council Executive Secretary and National Space Council UAG Chair

—Discussion of Topics for the UAG by the National Space Council

—Formation of Work Plan and UAG Subcommittees

—Other Committee Business and Public Input

Attendees will be requested to sign a register and to comply with NASA Headquarters security requirements, including the presentation of a valid picture ID to NASA Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, U.S. citizens and Permanent Residents (green card holders) are requested to provide full name and citizenship status no less than 3 working days prior to the meeting. Information should be sent to Mr. Brandon Eden via email at brandon.t.eden@nasa.gov. It is imperative that the meeting be held on these dates to the scheduling priorities of the key participants.

Patricia Rausch,
Advisory Committee Management Officer, National Aeronautics and Space Administration.

[FR Doc. 2018-11993 Filed 6-4-18; 8:45 am]

BILLING CODE 7510-13-P